DEPARTMENT OF COMMERCE

National Oceanic and Atmospheric Administration

Hydrographic Services Review Panel Meeting

AGENCY: National Ocean Service, National Oceanic and Atmospheric Administration (NOAA), Department of Commerce.

ACTION: Notice of public meeting (via conference call) on December 16, 2009.

SUMMARY: The Hydrographic Services Review Panel (HSRP), a Federal Advisory Committee, will be holding a public meeting via teleconference on December 16, 2009. The purpose of the meeting is to discuss and vote on proposed revisions to an updated version of the Hydrographic Services Review Panel Federal Advisory Committee Special Report 2007, “HSRP Most Wanted Hydrographic Services Improvements.”

Date and Time: The conference call will commence at 2 p.m. Eastern Standard Time on Wednesday, December 16, 2009, and will end by 4 p.m. Eastern Standard Time, if not earlier. Agenda topics and times are subject to change. For the most current meeting agenda, refer to the HSRP Web site: http://www.nauticaicharts.noaa.gov/ocs/hsrp/hsrp.htm.

Public Participation: The meeting is open to the public and will be held via conference call with documents reviewed by meeting participants via WebEx. To register for the meeting and participate in the conference call and on-line document review, contact Rebecca Arenson at Hydroservices.panel@noaa.gov or 301-713-2780 x158. Register for the meeting by Friday, December 11, 2009. Please note that there are a limited number of access lines for WebEx participation, with participation available on a first-come, first served basis. For more information on meeting topics, refer to the HSRP Web site at: http://www.nauticaicharts.noaa.gov/ocs/hsrp/hsrp.htm. A public comment period will be scheduled during the meeting. The public comment period will be part of the final agenda that will be published before the meeting date on the HSRP Web site (http://www.nauticaicharts.noaa.gov/ocs/hsrp/hsrp.htm). Written public comments should be submitted to Rebecca Arenson no later than December 11, 2009. Those individuals planning to provide oral comments are requested to inform Rebecca Arenson no later than December 11, 2009. The time period for oral comments may be limited. Please contact Rebecca Arenson via e-mail: Hydroservices.panel@noaa.gov or phone: 301-713-2780 x158.

FOR FURTHER INFORMATION CONTACT: Rebecca Arenson, NOAA, Office of Coast Survey, National Ocean Service (NOS), NOAA (N/CS), 1315 East West Highway, Silver Spring, Maryland 20910; Telephone: 301-713-2780 x158, e-mail: Hydroservices.panel@noaa.gov or visit the NOAA HSRP Web site at http://www.nauticaicharts.noaa.gov/ocs/hsrp/hsrp.htm.

SUPPLEMENTARY INFORMATION: The Hydrographic Services Review Panel (HSRP) was established by the Secretary of Commerce to advise the Under Secretary of Commerce for Oceans and Atmosphere on matters related to the responsibilities and authorities set forth in section 303 of the Hydrographic Services Improvement Act of 1998, its amendments, and such other appropriate matters that the Under Secretary refers to the Panel for review and advice.

The HSRP conference call is open to the public; participation is available on a first-come, first-served basis, and may be limited.

Items on the meeting agenda include: (1) Proposed revisions to an updated version of the Hydrographic Services Review Panel Federal Advisory Committee Special Report 2007, “HSRP Most Wanted Hydrographic Services Improvements,” and (2) other topics. Agenda topics and times are subject to change. For the most current meeting agenda, refer to the HSRP Web site: http://www.nauticaicharts.noaa.gov/ocs/hsrp/hsrp.htm.

Dated: November 9, 2009.
John E. Lowell, Jr.,
Director, Office of Coast Survey, National Ocean Service, National Oceanic and Atmospheric Administration.

[FR Doc. E9-28215 Filed 11-24-09; 8:45 am]

BILLING CODE 3510-JE-M